DEPARTMENT OF TRANSPORTATION

Federal Aviation Administration

14 CFR Part 39

[Docket No. FAA-2020-0181; Product Identifier 2019-CE-026-AD; Amendment 39-21030; AD 2020-04-13]

RIN 2120-AA64

Airworthiness Directives; Daher Aircraft Design, LLC (Type Certificate Previously Held by Quest Aircraft Design, LLC) Airplanes

AGENCY: Federal Aviation Administration (FAA), DOT.

ACTION: Final rule; request for comments.

SUMMARY: The FAA is adopting a new airworthiness directive (AD) for all Daher Aircraft Design, LLC (type certificate previously held by Quest Aircraft Design, LLC (Quest)) Model KODIAK 100 airplanes. This AD requires revising the pilot's operating handbook and FAA approved airplane flight manual (POH/AFM) or supplement 5 to the POH/AFM. This AD was prompted by incorrect low weight landing distances in the performance section of the POH/AFM and supplement 5 to the POH/AFM. The FAA is issuing this AD to address the unsafe condition on these products.

DATES: This AD is effective April 1, 2020.

The Director of the Federal Register approved the incorporation by reference of a certain publication listed in this AD as of April 1, 2020.

The FAA must receive comments on this AD by May 1, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Kodiak Aircraft Company, Inc., 1200 Turbine Drive, Sandpoint, Idaho 83864; phone: (208) 263-1111 or (866) 263-1112; email: KodiakCare@daher.com; internet: https://Kodiak.aero/support. You may view this service information at the FAA, Policy and Innovation Division, 901 Locust, Kansas City, Missouri 64106. For information on the availability of this material at the FAA, call (816) 329-4148. It is also available on the internet at https://www.regulations.gov by searching for and locating Docket No. FAA-2020-0181.

Examining the AD Docket

You may examine the AD docket on the internet at https://www.regulations.gov by searching for and locating Docket No. FAA-2020-0181; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Brian Knaup, Aerospace Engineer, Seattle ACO Branch, FAA, 2200 S 216th St., Des Moines, Washington 98198; telephone and fax: (206) 231-3502; email: brian.knaup@faa.gov.

SUPPLEMENTARY INFORMATION:

Discussion

The FAA was notified by Quest (now Daher Aircraft Design, LLC) that the performance section in the Kodiak 100 Series POH/AFM, revisions 8 through 21, and supplement 5, initial release and revision 01, to the POH/AFM were published with incorrect low weight landing distances in the “Obstacle Landing Distance” tables. The landing distances for 6,000 lbs., 5,000 lbs., and 4,000 lbs. were incorrectly calculated and show values up to 520 feet shorter than actual expected performance. However, the landing distances for 6,690 lbs. are accurate.

Model Kodiak 100 airplanes were originally type certificated with a gross weight of 6,690 lbs. Under an amended type certificate, serial numbers 100-0035 and subsequent were produced with an increased gross weight configuration of 7,255 lbs. and delivered with a POH/AFM (revisions 8 through 21) that contained limitations and performance data for the increased gross weight. For airplanes with serial numbers produced before 100-0035, Quest issued Service Notice SN-025 as an optional retrofit to increase the gross weight. Airplanes retrofitted with SN-025 were provided a supplement 5 to the POH/AFM (revision 1 through 7) that contained the limitations and performance changes associated with the increased gross weight.

Quest issued revision 22 of the POH/AFM to correct the landing distances data in the “Obstacle Landing Distance” table and to correct other errors and inconsistencies throughout the document.

If not corrected, incorrect obstacle landing distances for weights below max gross weight could result in a runway overrun. The FAA is issuing this AD to address the unsafe condition on these products.

Related Service Information Under 1 CFR Part 51

The FAA reviewed Table 5-19: Obstacle Landing Distance, pages 5_68 and 5_69, of Section 5, Performance, of the KODIAK 100 Series Aircraft Pilot's Operating Handbook and FAA Approved Airplane Flight Manual (Document No: AM901.0), Revision 22, dated April 10, 2019. These pages contain correct landing distance data in the “Obstacle Landing Distance” table. This service information is reasonably available because the interested parties have access to it through their normal course of business or by the means identified in the ADDRESSES section.

Other Related Service Information

The FAA reviewed Quest Safety Communique, QSC-011, Revision 00, dated April 1, 2019. This document notifies owner/operators of the incorrect data in the “Obstacle Landing Distance” table and recommends they revise their procedures until the corrected data is available.

FAA's Determination

The FAA is issuing this AD because it evaluated all relevant information and determined the unsafe condition described previously is likely to exist or develop in other products of the same type design.

AD Requirements

This AD requires revising the performance section of the POH/AFM or supplement 5 to the POH/AFM by removing the existing “Obstacle Landing Distance” table and replacing it with the “Obstacle Landing Distance” table found in revision 22 of the POH/AFM. This AD specifies that the owner/operator (pilot) may revise the AFM. Revising an AFM is not considered a maintenance action and may be done by a pilot holding at least a private pilot certificate. This action must be recorded in the aircraft maintenance records to show compliance with this AD.

FAA's Justification and Determination of the Effective Date

An unsafe condition exists that requires the immediate adoption of this AD without providing an opportunity for public comments prior to adoption. The FAA has found that the risk to the flying public justifies waiving notice and comment prior to adoption of this rule because a pilot using discrepant obstacle landing distance data could result in overrunning the runway on landing. Since the runway overrun could occur on any landing, the FAA requires compliance with this AD before further flight. Therefore, the FAA finds good cause that notice and opportunity for prior public comment are impracticable. In addition, for the reason stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2020-0181 and Product Identifier 2019-CE-026-AD at the beginning of your comments. The FAA specifically invites comments on the overall regulatory, economic, environmental, and energy aspects of this final rule. The FAA will consider all comments received by the closing date and may amend this final rule because of those comments.

The FAA will post all comments received, without change, to https://www.regulations.gov, including any personal information you provide. The FAA will also post a report summarizing each substantive verbal contact received about this final rule.

Costs of Compliance

The FAA estimates that this AD affects 99 airplanes of U.S. registry.

The FAA estimates the following costs to comply with this AD:

Estimated Costs
Action | Labor cost | Parts cost | Cost per product | Cost on U.S. operators
Replace the “Obstacle Landing Distance” table | .5 work-hour × $85 per hour = $42.50 | Not applicable | $42.50 | $4,207.50

This AD allows the owner/operator (pilot) to replace the affected table in the POH/AFM or supplement 5 to the POH/AFM required by this AD. According to Quest, they will provide one full copy of Quest Aircraft KODIAK 100 Series Aircraft Pilot's Operating Handbook and FAA Approved Airplane Flight Manual (Document No: AM901.0), Revision 22, dated April 10, 2019, to operators. However, the FAA does not control warranty coverage for affected individuals.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-04-13 Daher Aircraft Design, LLC (Type Certificate Previously Held by Quest Aircraft Design, LLC): Amendment 39-21030; Docket No. FAA-2020-0181; Product Identifier 2019-CE-026-AD.

(a) Effective Date

This AD is effective April 1, 2020.

(b) Affected ADs

None.

(c) Applicability

This AD applies to Quest Aircraft Design, LLC (type certificate data sheet currently held by Daher Aircraft Design, LLC) Model KODIAK 100 airplanes, serial numbers 100-0001 through 100-0273, certificated in any category.

(d) Subject

Joint Aircraft System Component (JASC)/Air Transport Association (ATA) of America Code 91, Charts.

(e) Unsafe Condition

This AD was prompted by incorrect low weight landing distances in the “Obstacle Landing Distance” table, located either in the performance section of the pilot's operating handbook and FAA approved airplane flight manual (POH/AFM) or in supplement 5 to the POH/AFM. The FAA is issuing this AD to prevent pilots from using incorrect obstacle landing distance performance charts for weights below maximum gross weight. The unsafe condition, if not addressed, could result in pilots miscalculating the required landing distance, which could lead to a runway overrun.

(f) Compliance

Comply with this AD within the compliance times specified, unless already done.

(g) Revise the POH/AFM

(1) Before further flight after April 1, 2020 (the effective date of this AD), revise the POH/AFM for your airplane by removing the “Obstacle Landing Distance” table (2 pages) and replacing it with Table 5-19, Obstacle Landing Distance, pages 5_68 and 5_69, Section 5, Performance, from Quest Aircraft Kodiak 100 Series Aircraft, Pilot's Operating Handbook and FAA Approved Airplane Flight Manual (Document No: AM901.0), Revision 22, dated April 10, 2019.

Note 1 to paragraph (g)(1) of this AD: The Obstacle Landing Distance table may be located either in the Performance section (Section 5) of the POH/AFM or in supplement 5 to the POH/AFM, depending on the revision level of your POH/AFM.

(2) The actions required by paragraphs (g)(1) of this AD may be performed by the owner/operator (pilot) holding at least a private pilot certificate and must be entered into the aircraft records showing compliance with this AD in accordance with 14 CFR 43.9(a)(1) through (4) and 91.417(a)(2)(v). The record must be maintained as required by 14 CFR 91.417, 121.380, or 135.439.

(h) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD.

(2) Before using any approved AMOC, notify your appropriate principal inspector, or lacking a principal inspector, the manager of the local flight standards district office/certificate holding district office.

(i) Related Information

(1) For more information about this AD, contact Brian Knaup, Aerospace Engineer, Seattle ACO Branch, FAA, 2200 S 216th St., Des Moines, Washington 98198; telephone and fax: (206) 231-3502; email: brian.knaup@faa.gov.

(2) Quest Aircraft Quest Safety Communique, QSC-011, Revision 00, dated April 1, 2019, contains additional information related to this AD. You may obtain a copy of this document using the contact information in paragraph (j)(3) of this AD.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Table 5-19, Obstacle Landing Distance, pages 5_68 and 5_69, of Section 5, Performance, of the Quest Aircraft Kodiak 100 Series Aircraft Pilot's Operating Handbook and FAA Approved Airplane Flight Manual (Document No: AM901.0), Revision 22, dated April 10, 2019.

(ii) [Reserved]

(3) For Quest Aircraft Company LLC service information identified in this AD, contact Kodiak Aircraft Company Inc. (formerly Quest Aircraft Company LLC), 1200 Turbine Drive, Sandpoint, Idaho 83864; phone: (208) 263-1111 or 1 (866) 263-1112; email: KodiakCare@daher.com; internet: https://Kodiak.aero/support.

(4) You may view this service information at the FAA, Policy and Innovation Division, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued in Kansas City, Missouri, on February 27, 2020.
Patrick R. Mullen,
Aircraft Certification Service, Manager, Small Airplane Standards Branch, AIR-690.

[FR Doc. 2020-05368 Filed 3-16-20; 8:45 am]

BILLING CODE 4910-13-P